DEPARTMENT OF VETERANS AFFAIRS

[OMB Control No. 2900-0915]

Agency Information Collection Activity: VBA Contractor Background Investigation Request and VBA Affiliate Background Investigation Request

AGENCY: Veterans Benefits Administration, Department of Veterans Affairs.

ACTION: Notice.

SUMMARY: Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice.

DATES: Comments must be received on or before December 17, 2024.

ADDRESSES: Comments must be submitted through www.regulations.gov.

FOR FURTHER INFORMATION CONTACT:

Program-Specific information: Nancy Kessinger, 202-632-8924, nancy.kessinger@va.gov.

VA PRA information: Maribel Aponte, 202-461-8900, vacopaperworkreduact@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: VBA Contractor Background Investigation Request and VBA Affiliate Background Investigation Request (VA Form 20-10276a).

OMB Control Number: 2900-0915. https://www.reginfo.gov/public/do/PRASearch (Once at this link, you can enter the OMB Control Number to find the historical versions of this Information Collection).

Type of Review: Revision of a currently approved collection.

Abstract: VA Forms 20-10276 and 20-10276a are used to gather the mandatory information to determine eligibility for employment and have physical and logical access for VBA. Without this information, determination of eligibility for employment and access would not be possible.

The new form (VA Form 20-10276a) added to this collection is used to collect information from Affiliates who are applying to work/volunteer for VBA. After the collection, personnel security specialists can perform background investigation work to determine eligibility for employment and to have physical and logical access to VBA Systems.

Affected Public: Individuals and households.

Estimated Annual Burden: 2,167.

Estimated Average Burden per Respondent: 10 minutes.

Frequency of Response: Once.

Estimated Number of Respondents: 10,000 per year.

Authority: 44 U.S.C. 3501 et seq.

Maribel Aponte,
VA PRA Clearance Officer, Office of Enterprise and Integration/Data Governance Analytics, Department of Veterans Affairs.

[FR Doc. 2024-23991 Filed 10-17-24; 8:45 am]

BILLING CODE 8320-01-P